NUCLEAR REGULATORY COMMISSION

[Docket No. 40-09083; NRC-2009-0352]

Issuance of Materials License for U.S. Army Installation Management Command

AGENCY: Nuclear Regulatory Commission.

ACTION: Notice of issuance of materials license.

SUMMARY: The U.S. Nuclear Regulatory Commission (NRC) has issued a license to the U.S. Army, Installation Management Command, for possession of depleted uranium (DU) from the Davy Crockett weapon spotting round at the U.S. Army's Schofield Barracks and Pohakuloa Training Area installations in Hawaii. The Army informed the NRC in November 2006 that it had discovered DU fragments at the Schofield Barracks. Following that discovery, the Army determined that the Davy Crockett system had been used at other Army installations. The Army has a sufficient amount of DU that, under the Atomic Energy Act and NRC regulations, it is required to have a radioactive materials license. The Army submitted a license application in November 2008 for the DU at the Hawaiian sites. In the future, the Army will request amendments the license to address Davy Crockett DU at the other sites.

ADDRESSES: Please refer to Docket ID NRC-2009-0352 when contacting the NRC about the availability of information regarding this document. You may access publicly-available information related to this document using any of the following methods:

• Federal Rulemaking Web site: Go to http://www.regulations.gov and search for Docket ID NRC-2009-0352. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. In addition, for the convenience of the reader, the ADAMS accession numbers are provided in the section of this document entitled, SUPPLEMENTARY INFORMATION.

• NRC's PDR: You may examine and purchase copies of public documents at the NRC's PDR, Room O1-F21, One White Flint North, 11555 Rockville Pike, Rockville, Maryland 20852.

FOR FURTHER INFORMATION CONTACT: Dominick Orlando, Office of Federal and State Materials and Environmental Management Programs, U.S. Nuclear Regulatory Commission, Washington DC 20555-0001, telephone: 301-415-6749, email: Dominick.Orlando@nrc.gov.

SUPPLEMENTARY INFORMATION: The NRC has issued a license to the U.S. Army, Installation Management Command for possession of depleted uranium from the Davy Crockett weapon spotting round at the U.S. Army's Schofield Barracks and Pohakuloa Training Area installations in Hawaii. Materials License SUC-1593 authorizes possession only of existing depleted uranium from the Davy Crockett weapon and does not allow the U.S. Army to use the depleted uranium for other purposes or add to the existing depleted uranium inventory on the installations. The Army will also be required to conduct its operations in accordance with the conditions listed in Materials License SUC-1593.

This notice also serves as the record of decision for the NRC's decision to approve the U.S. Army, Installation Management Command's license application for the Schofield Barracks and Pohakuloa Training Area and issue Materials License SUC-1593.

The NRC considers the entire publicly available record for a license application to constitute the agency's record of decision. Documents related to the application carry NRC docket ID NRC-2009-0352. These documents for the U.S. Army, Installation Management Command license include the license application (ML090070095), the Safety Evaluation Report (SER) (ML13259A081), and the license (ML13259A062). Note that a complete listing of documents associated with the NRC staff's review of the Army's license application is included in the SER.

The U.S. Army, Installation Management Command's request for a materials license was previously noticed in the Federal Register on August 13, 2009 (74 FR 40855), with a notice of an opportunity to request a hearing. On October 26, 2009, NRC staff received both comments on the license application and a request for a hearing. On November 24, 2009, an Atomic Safety and Licensing and Board (ASLBP) was established to preside over the proceeding (74 FR 62830). On January 13, 2010, the ASLBP held oral arguments on standing and contention admissibility in Rockville, Maryland, with the petitioners participating by videoconference from the Hilo Campus of the University of Hawaii on the island of Hawaii. On February 24, 2010, the ASLB denied the request (ML100550704), and the ASLB's decision was appealed by one of the individuals to the Commission (ML100640665). On August 12, 2010, the Commission affirmed the ALSB's decision (ML102240165).

In accordance with 10 CFR 2.390 of the NRC's “Rules of Practice and Procedure,” the details with respect to this action, including the SER and accompanying documentation and license, are available electronically at the NRC's Electronic Reading Room at http://www.nrc.gov/reading-rm/adams.html. From this site, you can access ADAMS, which provides text and image files of the NRC's public documents.

Dated at Rockville, Maryland, this 12th day of November, 2013.
For the Nuclear Regulatory Commission.
Andrew Persinko,
Deputy Director, Decommissioning and Uranium Licensing Directorate, Division of Waste Management and Environmental Protection, Office of Federal and State Materials and Environmental Management Programs.

[FR Doc. 2013-28058 Filed 11-21-13; 8:45 am]

BILLING CODE 7590-01-P